DEPARTMENT OF ENERGY

Federal Energy Regulatory Commission

[Docket No. PF15-6-000]

Atlantic Coast Pipeline, LLC; Supplemental Notice of Intent To Prepare an Environmental Impact Statement for the Planned Atlantic Coast Pipeline Project, and Request for Comments on Environmental Issues Related to New Alternatives Under Consideration

The Federal Energy Regulatory Commission (FERC or Commission) is issuing this supplemental notice (Notice) to provide landowners potentially affected by additional pipeline route alternatives an opportunity to comment on impacts associated with these newly identified routes. The FERC is the lead federal agency responsible for conducting the environmental review of the ACP Project. The Commission's staff will prepare an environmental impact statement (EIS) that discusses the environmental impacts of the ACP Project. This EIS will be used in part by the Commission to determine whether the ACP Project is in the public convenience and necessity.

You have been identified as a landowner that may be affected by new alternatives being considered. Information in this Notice is provided to familiarize you with these new alternatives, the ACP Project as a whole, and the Commission's environmental review process, and instruct you on how to submit comments about the ACP Project and the alternatives under consideration. This Notice is also being sent to federal, state, and local government agencies; elected officials; environmental and public interest groups; Native American tribes; other interested parties; and local libraries and newspapers in the vicinity of these alternatives. We encourage elected officials and government representatives to notify their constituents about the ACP Project and inform them on how they can comment on their areas of concern. Please note that comments on this Notice should be filed with the Commission by September 4, 2015.

If your property would be affected by one of the alternatives under consideration, you should have already been contacted by an Atlantic representative. An Atlantic representative may have also contacted you or may contact you in the near future about the acquisition of an easement to construct, operate, and maintain the planned facilities or request permission to perform environmental surveys on your property. Some landowners may not be contacted if the alternative across their property is found to be either not feasible or not environmentally preferable to other alternatives being considered. If the Commission approves the ACP Project, that approval conveys with it the right of eminent domain. Therefore, if easement negotiations fail to produce an agreement, the pipeline company could initiate condemnation proceedings where compensation would be determined in accordance with state law.

To help potentially affected landowners better understand the Commission and its environmental review process, the “For Citizens” section of the FERC Web site (www.ferc.gov) provides information about getting involved in FERC jurisdictional projects, and a citizens' guide entitled “An Interstate Natural Gas Facility On My Land? What Do I Need to Know?” This guide addresses a number of frequently asked questions, including the use of eminent domain and how to participate in the Commission's proceedings.

Project Summary and Background

The ACP Project would involve the construction and operation of 556 miles of variable diameter natural gas pipeline in West Virginia, Virginia, and North Carolina. The pipeline facilities associated with the ACP Project would be comprised of four main components as follows:

• Approximately 292.8 miles of 42-inch-diameter pipeline in Harrison, Lewis, Upshur, Randolph, and Pocahontas Counties, West Virginia; Highland, Augusta, Nelson, Buckingham, Cumberland, Prince Edward, Nottoway, Dinwiddie, Brunswick, and Greensville Counties, Virginia; and Northampton County, North Carolina;

• approximately 181.5 miles of 36-inch-diameter pipeline in Northampton, Halifax, Nash, Wilson, Johnston, Sampson, Cumberland, and Robeson Counties, North Carolina;

• approximately 77.6 miles of 20-inch-diameter lateral pipeline in Northampton County, North Carolina; Greensville and Southampton, Counties, Virginia; and the Cities of Suffolk and Chesapeake, Virginia;

• approximately 3.1 miles of 16-inch-diameter natural gas lateral pipeline in Brunswick County, Virginia; and

• approximately 1.0 mile of 16-inch-diameter natural gas lateral pipeline in Greenville County, Virginia.

In addition to the planned pipelines, Atlantic plans to construct and operate three new compressor stations totaling 117,405 horsepower of compression. These compressor stations would be located in Lewis County, West Virginia; Buckingham County, Virginia; and Northampton County, North Carolina. Atlantic would also install metering stations, valves, pig launcher/receiver sites,¹ and associated appurtenances along the planned pipeline system.

¹ A “pig” is a tool that the pipeline company inserts into and pushes through the pipeline for cleaning the pipeline, conducting internal inspections, or other purposes.

Dominion Transmission, Inc. (Dominion) is planning to construct the Supply Header Project (SHP), which we will review concurrently with the ACP Project. The SHP would involve the construction and operation of approximately 36.7 miles of pipeline loop ² and the modification of existing compression facilities in Pennsylvania and West Virginia. The pipeline facilities associated with the SHP would be comprised of two main components: (1) Approximately 3.9 miles of 30-inch-diameter natural gas pipeline loop adjacent to Dominion's existing LN-25 pipeline in Westmoreland County, Pennsylvania; and (2) approximately 32.8 miles of 36-inch-diameter pipeline loop adjacent to Dominion's existing TL-360 pipeline in Harrison, Doddridge, Tyler, and Wetzel Counties, West Virginia.

² A pipeline “loop” is a segment of pipe constructed parallel to an existing pipeline to increase capacity.

In addition to the planned pipelines, Dominion plans to modify four existing compressor stations in Westmoreland and Green Counties, Pennsylvania and Marshall and Wetzel Counties, West Virginia. Dominion would install new gas-fired turbines that would provide for a combined increase of 77,230 horsepower of compression. Dominion would also install new valves, pig launcher/receiver sites, and associated appurtenances at these existing compressor station locations.

The SHP and ACP Projects would be capable of delivering 1.5 billion cubic feet of natural gas per day to eight planned distribution points in West Virginia, Virginia, and North Carolina. If approved, construction of the projects is proposed to begin in September 2016.

On November 13, 2014 the Commission's environmental staff approved Atlantic's and Dominion's request to use the Commission Pre-filing Process for the SHP and ACP Project. The purpose of the Pre-filing Process is to encourage the early involvement of interested stakeholders to identify and resolve project-related issues before an application is filed with the Commission. On February 27, 2015 the Commission issued a Notice of Intent to Prepare an Environmental Impact Statement for the Planned Supply Header Project and Atlantic Coast Pipeline Project, Request for Comments on Environmental Issues, and Notice of Public Scoping Meetings.

During the course of the Pre-filing Process, numerous concerns have been expressed about the potential environmental impacts of the project and the need to collocate the planned facilities with existing rights-of-way. Based on the merits of these comments, and to ensure that potential environmental impacts are minimized to the extent practical and that public concerns are fully addressed during the Pre-filing Process, additional alternatives have been identified and are being considered.

Project Alternatives

The following new alternatives are now being analyzed. Illustrations of these alternatives are provided in Appendix 1.³ Detailed alternative route location information can be found on Dominion's interactive web mapping application at https://www.dom.com/corporate/what-we-do/atlantic-coast-pipeline.

³ The appendices referenced in this notice will not appear in the Federal Register. Copies of the appendices were sent to all those receiving this notice in the mail and are available at www.ferc.gov using the link called “eLibrary” or from the Commission's Public Reference Room, 888 First Street NE., Washington, DC 20426, or call (202) 502-8371. For instructions on connecting to eLibrary, refer to the last page of this notice.

Brunswick Route Alternative (Brunswick and Greensville Counties, Virginia)

The Brunswick Route Alternative would deviate from Atlantic's planned route near AP-1 milepost (MP) 259 and extend south and for approximately 20.9 miles before rejoining the planned route near AP-1 MP 277. The majority of the Brunswick Route Alternative would follow a recently constructed electric transmission line. The Brunswick Route Alternative would reduce the length of the planned AP-3 lateral pipeline.

Boykins Route Alternative (Southampton County, Virginia)

The Boykins Route Alternative would deviate from Atlantic's planned route near AP-3 MP 14.5 and extend for approximately 13 miles in a northeast direction before rejoining the planned AP-3 route at approximate AP-3 MP 28. The majority of the Boykins Route Alternative would follow an existing 115 kilovolt electric transmission line.

Franklin Route Alternative (Southampton and Isle of Wright Counties and the Cities of Franklin and Suffolk, Virginia)

The Franklin Route Alternative would deviate from Atlantic's planned route near AP-3 MP 41 and extend for approximately 12.5 miles in a easterly direction before rejoining the planned AP-3 route at approximate AP-3 MP 53. The majority of the Franklin Route Alternative would follow an existing 115 kilovolt electric transmission line.

The EIS Process

The National Environmental Policy Act (NEPA) requires the Commission to take into account the environmental impacts that could result from an action whenever it considers the issuance of a Certificate of Public Convenience and Necessity. NEPA also requires us to discover and address concerns the public may have about proposals. This process is referred to as scoping. The main goal of the scoping process is to focus the analysis in the EIS on the important environmental issues. By this notice, the Commission requests public comments on the planned ACP Project and the three alternatives identified above. We will consider all filed comments that are suggested during the preparation of the EIS.

Our independent analysis of the issues will be presented in a draft EIS that will be placed in the public record, published, and distributed to the public for comments. We will also hold public comment meetings in the project area and will address comments on the draft EIS in a final EIS. The final EIS will also be placed in the public record, published, and distributed to the public. To ensure your comments are considered, please carefully follow the instructions in the Public Participation section on the following page.

Consultations Under Section 106 of the National Historic Preservation Act

In accordance with the Advisory Council on Historic Preservation's implementing regulations for Section 106 of the National Historic Preservation Act, we are using this notice to initiate consultation with the applicable State Historic Preservation Offices, and to solicit their views and those of other government agencies, interested Indian tribes, and the public on the projects' potential effects on historic properties.⁴ We will define the project-specific Area of Potential Effects (APE) in consultation with the SHPOs as the projects develop. On natural gas facility projects, the APE at a minimum encompasses all areas subject to ground disturbance (examples include construction right-of-way, contractor/pipe storage yards, compressor stations, and access roads). Our EIS for these projects will document our findings on the impacts on historic properties and summarize the status of consultations under Section 106.

⁴ The Advisory Council on Historic Preservation regulations are at Title 36, Code of Federal Regulations, Part 800. Those regulations define historic properties as any prehistoric or historic district, site, building, structure, or object included in or eligible for inclusion in the National Register of Historic Places.

Public Participation

You can make a difference by providing us with your specific comments or concerns about the alternatives presented above and about the projects in general. Your comments should focus on the potential environmental effects, reasonable alternatives, and measures to avoid or lessen environmental impacts. The more specific your comments, the more useful they will be. To ensure that your comments are considered in a timely manner and properly recorded, please send your comments so that the Commission receives them in Washington, DC on or before September 4, 2015.

For your convenience, there are three methods you can use to submit your comments to the Commission. In all instances, please reference the appropriate project docket number (PF15-6-000 for the ACP Project) with your submission. The Commission encourages electronic filing of comments and has expert staff available to assist you at (202) 502-8258 or efiling@ferc.gov.

(1) You can file your comments electronically using the eComment feature located on the Commission's Web site (www.ferc.gov) under the link to Documents and Filings. This is an easy method for interested persons to submit brief, text-only comments on a project;

(2) You can file your comments electronically using the eFiling feature located on the Commission's Web site (www.ferc.gov) under the link to Documents and Filings. With eFiling, you can provide comments in a variety of formats by attaching them as a file with your submission. New eFiling users must first create an account by clicking on “eRegister.” You must select the type of filing you are making. If you are filing a comment on a particular project, please select “Comment on a Filing;” or

(3) You can file a paper copy of your comments by mailing them to the following address: Kimberly D. Bose, Secretary, Federal Energy Regulatory Commission, 888 First Street NE., Room 1A, Washington, DC 20426.

Environmental Mailing List

The environmental mailing list includes federal, state, and local government representatives and agencies; elected officials; environmental and public interest groups; Native American Tribes; other interested parties; and local libraries and newspapers. This list also includes all affected landowners (as defined in the Commission's regulations) who are potential right-of-way grantors, whose property may be used temporarily for project purposes, or who own homes within certain distances of aboveground facilities, as well as anyone who submits comments on the projects. We will update the environmental mailing list as the analysis proceeds to ensure that we send the information related to this environmental review to all individuals, organizations, and government entities interested in and/or potentially affected by the planned projects.

Copies of the completed draft EIS will be sent to the environmental mailing list for public review and comment. If you would prefer to receive a paper copy of the document instead of the CD version or would like to remove your name from the mailing list, please return the attached Information Request (appendix 2).

Becoming an Intervenor

Once Atlantic files an application with the Commission, you may want to become an “intervenor,” which is an official party to the Commission's proceeding. Intervenors play a more formal role in the process and are able to file briefs, appear at hearings, and be heard by the courts if they choose to appeal the Commission's final ruling. An intervenor formally participates in the proceeding by filing a request to intervene. Instructions for becoming an intervenor are in the User's Guide under the “e-filing” link on the Commission's Web site. Please note that the Commission will not accept requests for intervenor status at this time. You must wait until the Commission receives formal applications for the projects.

Additional Information

Additional information about the ACP Project is available from the Commission's Office of External Affairs, at (866) 208-FERC, or on the FERC Web site (www.ferc.gov) using the eLibrary link. Click on the eLibrary link, click on “General Search,” and enter the docket number, excluding the last three digits (i.e., PF15-6). Be sure you have selected an appropriate date range. For assistance, please contact FERC Online Support at FercOnlineSupport@ferc.gov or toll free at (866) 208-3676, or for TTY, contact (202) 502-8659. The eLibrary link also provides access to the texts of formal documents issued by the Commission, such as orders, notices, and rulemakings.

In addition, the Commission offers a free service called eSubscription which allows you to keep track of all formal issuances and submittals in specific dockets. This can reduce the amount of time you spend researching proceedings by automatically providing you with notification of these filings, document summaries, and direct links to the documents. Go to www.ferc.gov/esubscribenow.htm.

Finally, public meetings or site visits will be posted on the Commission's calendar located at www.ferc.gov/EventCalendar/EventsList.aspx along with other related information.

Dated: August 5, 2015.
Nathaniel J. Davis, Sr.,
Deputy Secretary.

[FR Doc. 2015-19695 Filed 8-10-15; 8:45 am]

BILLING CODE 6717-01-P